SECURITIES AND EXCHANGE COMMISSION

[Release No. 34-75884; File No. 10-221]

ISE Mercury, LLC; Notice of Filing of Application for Registration as a National Securities Exchange Under Section 6 of the Securities Exchange Act of 1934

September 10, 2015.

On September 29, 2014, ISE Mercury, LLC (“ISE Mercury” or “Applicant”) submitted to the Securities and Exchange Commission (“Commission”) a Form 1 application under the Securities Exchange Act of 1934 (“Exchange Act”), seeking registration as a national securities exchange under Section 6 of the Exchange Act.¹ On June 26, 2015, ISE Mercury submitted Amendment No. 1 to its Form 1 application.

¹ On September 9, 2015, the Commission issued an order granting the Applicant exemptive relief, subject to certain conditions, in connection with the filing of its Form 1 application. See Securities Exchange Act Release No. 75867. Because the Applicant's Form 1 application was incomplete without the exemptive relief, the date of filing of such application is September 9, 2015.

The Commission is publishing this notice to solicit comments on ISE Mercury's Form 1 application, as amended. The Commission will take any comments it receives into consideration in making its determination about whether to grant ISE Mercury's request to be registered as a national securities exchange. The Commission will grant the registration if it finds that the requirements of the Exchange Act and the rules and regulations thereunder with respect to ISE Mercury are satisfied.²

² 15 U.S.C. 78s(a).

The Applicant's Form 1 application, as amended, provides detailed information on how ISE Mercury proposes to satisfy the requirements of the Exchange Act. The Form 1 application also provides that ISE Mercury would operate a fully automated electronic trading platform for the trading of listed options and would not maintain a physical trading floor. It also provides that liquidity would be derived from orders to buy and orders to sell submitted to ISE Mercury electronically by its registered broker-dealer members, as well as from quotes submitted electronically by market makers. Further, the Form 1 application states that ISE Mercury would be wholly-owned by its parent company, International Securities Exchange Holdings, Inc. (“ISE Holdings”), which also is the parent company of two existing national securities exchanges, ISE and ISE Gemini, LLC.

A more detailed description of the manner of operation of ISE Mercury's proposed system can be found in Exhibit E to ISE Mercury's Form 1 application. The proposed rulebook for the proposed exchange can be found in Exhibit B to ISE Mercury's Form 1 application, and the governing documents for both ISE Mercury and ISE Holdings can be found in Exhibit A and Exhibit C to ISE Mercury's Form 1 application, respectively. A listing of the officers and directors of ISE Mercury can be found in Exhibit J to ISE Mercury's Form 1 application.

ISE Mercury's Form 1 application, including all of the Exhibits referenced above, is available online at www.sec.gov/rules/other.shtml as well as in the Commission's Public Reference Room. Interested persons are invited to submit written data, views, and arguments concerning ISE Mercury's Form 1, including whether the application is consistent with the Exchange Act.

Comments may be submitted by any of the following methods:

Electronic Comments

• Use the Commission's Internet comment form (http://www.sec.gov/rules/sro.shtml); or

• Send an email to rule-comments@sec.gov. Please include File Number 10-221 on the subject line.

Paper Comments

• Send paper comments in triplicate to Brent J. Fields, Secretary, Securities and Exchange Commission, 100 F Street NE., Washington, DC 20549-1090.

All submissions should refer to File Number 10-221. This file number should be included on the subject line if email is used. To help the Commission process and review your comments more efficiently, please use only one method. The Commission will post all comments on the Commission's Internet Web site (http://www.sec.gov/rules/other.shtml). Copies of the submission, all subsequent amendments, all written statements with respect to ISE Mercury's Form 1 filed with the Commission, and all written communications relating to the application between the Commission and any person, other than those that may be withheld from the public in accordance with the provisions of 5 U.S.C. 552, will be available for Web site viewing and printing in the Commission's Public Reference Room, 100 F Street NE., Washington, DC 20549, on official business days between the hours of 10:00 a.m. and 3:00 p.m. All comments received will be posted without change; the Commission does not edit personal identifying information from submissions. You should submit only information that you wish to make publicly available. All submissions should refer to File Number 10-221 and should be submitted on or before November 2, 2015.

For the Commission, by the Division of Trading and Markets, pursuant to delegated authority.³
³ 17 CFR 200.30-3(a)(57).
Brent J. Fields,
Secretary.

[FR Doc. 2015-23220 Filed 9-15-15; 8:45 am]

BILLING CODE 8011-01-P